NUCLEAR REGULATORY COMMISSION

[NRC-2016-0108]

Changes to Aging Management Guidance for Various Steam Generator Components

AGENCY: Nuclear Regulatory Commission.

ACTION: Draft license renewal interim staff guidance; request for comment.

SUMMARY: The U.S. Nuclear Regulatory Commission (NRC) is seeking public comment on the draft License Renewal Interim Staff Guidance (LR-ISG), LR-ISG-2016-01, “Changes to Aging Management Guidance for Various Steam Generator Components.” The draft LR-ISG describes changes to the aging management guidance for steam generator components in NUREG-1801, “Generic Aging Lessons Learned (GALL) Report,” Revision 2, and NUREG-1800, “Standard Review Plan for Review of License Renewal Applications for Nuclear Power Plants” (SRP-LR), Revision 2. This draft LR-ISG includes changes to GALL Report aging management program (AMP) XI.M19, “Steam Generators,” and the aging management review (AMR) items in the GALL Report and SRP-LR for the steam generator components.

DATES: Submit comments by July 7, 2016. Comments received after this date will be considered, if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2016-0108. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Dr. Seung Min, Office of Nuclear Reactor Regulation, U.S. Nuclear Regulatory Commission, Washington, DC 20555-0001; telephone: 301-415-2045; email: Seung.Min@nrc.gov.

SUPPLEMENTARY INFORMATION:

I. Obtaining Information and Submitting Comments

A. Obtaining Information

Please refer to Docket ID NRC-2016-0108 when contacting the NRC about the availability of information regarding this action. You may obtain publicly-available information related to this action by any of the following methods:

• Federal Rulemaking Web site: Go to http://www.regulations.gov and search for Docket ID NRC-2016-0108.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Draft LR-ISG-2016-01 is available in ADAMS under Accession No. ML16102A268. The GALL Report, NUREG-1801, Revision 2 (December 2010), and the SRP-LR, NUREG-1800, Revision 2 (December 2010), are available in ADAMS under Accession Nos. ML103490041 and ML103490036, respectively. The draft GALL Report for Subsequent License Renewal (GALL-SLR), NUREG-2191 (December 2015), Volumes 1 and 2, and draft Standard Review Plan for Subsequent License Renewal (SRP-SLR), NUREG-2192 (December 2015), are available in ADAMS under Accession Nos. ML15348A111, ML15348A153, and ML15348A265, respectively.

• NRC's PDR: You may examine and purchase copies of public documents at the NRC's PDR, Room O1-F21, One White Flint North, 11555 Rockville Pike, Rockville, Maryland 20852.

• NRC's License Renewal Guidance Web site: Guidance for license renewal documents are also available online at http://www.nrc.gov/reactors/operating/licensing/renewal/guidance.html.

B. Submitting Comments

Please include Docket ID NRC-2016-0108 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

This draft LR-ISG describes changes to the aging management guidance for steam generator components in NUREG-1801 (GALL Report), Revision 2, and NUREG-1800 (SRP-LR), Revision 2. The draft LR-ISG revises GALL Report AMP XI.M19, “Steam Generators,” and SRP-LR Sections 3.1.2.2.11 and 3.1.3.2.11, “Cracking Due to Primary Water Stress Corrosion Cracking.” Specifically, this LR-ISG addresses the changes to aging management guidance for managing: (a) cracking due to primary water stress corrosion cracking in divider plate assemblies and tube-to-tubesheet welds, and (b) loss of material due to boric acid corrosion in steam generator heads and tubesheets. In addition, changes are made to the associated AMR items in the GALL Report and SRP-LR. This draft LR-ISG also revises the Final Safety Analysis Report supplement for the AMP that is documented in Table 3.0-1, “FSAR Supplement for Aging Management of Applicable Systems” of the SRP-LR.

These changes provide one acceptable approach for managing the associated aging effects for steam generator components within the scope of the license renewal rule (part 54 of title 10 of the Code of Federal Regulations (10 CFR), “Requirements for Renewal of Operating Licenses for Nuclear Power Plants”). A licensee may cite LR-ISG-2016-01 in its license renewal application until the guidance in this LR-ISG is incorporated into the license renewal guidance documents (i.e., GALL Report and SRP-LR).

The NRC issues LR-ISGs to communicate insights and lessons learned and to address emergent issues not covered in license renewal guidance documents, such as the GALL Report and SRP-LR. In this way, the NRC staff and stakeholders may use the guidance in an LR-ISG document before it is incorporated into a formal license renewal guidance document revision. The NRC staff issues LR-ISGs in accordance with the LR-ISG Process, Revision 2 (ADAMS Accession No. ML100920158), for which a notice of availability was published in the Federal Register on June 22, 2010 (75 FR 35510).

The NRC also plans to consider the information in this LR-ISG and make corresponding changes when finalizing the draft aging management guidance for the subsequent license renewal period (i.e., up to 80 years of operation), which is documented in draft NUREG-2191, “Generic Aging Lessons Learned for Subsequent License Renewal (GALL-SLR) Report,” and draft NUREG-2192, “Standard Review Plan for Review of Subsequent License Renewal Applications for Nuclear Power Plants,” if it is practicable to do so in terms of the guidance development schedule.

III. Proposed Action

By this action, the NRC is requesting public comments on draft LR-ISG-2016-01. This LR-ISG proposes certain revisions to NRC guidance on implementation of the requirements in 10 CFR part 54. The NRC staff will make a final determination regarding issuance of the LR-ISG after it considers any public comments received in response to this request.

IV. Backfitting

Issuance of this LR-ISG in final form would not constitute backfitting as defined in 10 CFR 50.109 (the Backfit Rule). As discussed in the “Backfitting” section of draft LR-ISG-2016-01, the LR-ISG is directed to holders of operating licenses who are currently in the license renewal process. The LR-ISG is not directed to holders of operating licenses or combined licenses until they apply for license renewal. The LR-ISG also is not directed to licensees who already hold renewed operating licenses. However, the NRC could also use the LR-ISG in evaluating voluntary, licensee-initiated changes to previously-approved AMPs.

Dated at Rockville, Maryland, this 31st day of May, 2016.
For the Nuclear Regulatory Commission.
Dennis C. Morey,
Acting Deputy Director, Division of License Renewal, Office of Nuclear Reactor Regulation.

[FR Doc. 2016-13388 Filed 6-6-16; 8:45 am]

BILLING CODE 7590-01-P